DEPARTMENT OF THE INTERIOR

National Park Service

[NPS-WASO-NAGPRA-NPS0034805; PPWOCRADN0-PCU00RP14.R50000]

Notice of Intent To Repatriate Cultural Items: Beloit College, Logan Museum of Anthropology, Beloit, WI

AGENCY: National Park Service, Interior.

ACTION: Notice.

SUMMARY: Beloit College, Logan Museum of Anthropology, in consultation with the appropriate Indian Tribes or Native Hawaiian organizations, has determined that the cultural items listed in this notice meet the definition of unassociated funerary objects. Lineal descendants or representatives of any Indian Tribe or Native Hawaiian organization not identified in this notice that wish to claim these cultural items should submit a written request to Beloit College, Logan Museum of Anthropology. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to Beloit College, Logan Museum of Anthropology at the address in this notice by December 7, 2022.

FOR FURTHER INFORMATION CONTACT: Nicolette B. Meister, Beloit College, Logan Museum of Anthropology, 700 College Street, Beloit, WI 53511, telephone (608) 363-2305, email meistern@beloit.edu.

SUPPLEMENTARY INFORMATION: Notice is here given in accordance with the Native American Graves Protection and Repatriation Act (NAGPRA), 25 U.S.C. 3005, of the intent to repatriate cultural items under the control of Beloit College, Logan Museum of Anthropology, Beloit, WI, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On an unknown date, six cultural items were removed from Elliot Mound, No. 3, in Sacramento County, CA. Museum catalog information states the items most likely belong to the Horatio Nelson Rust Collection. A native of Amherst, Massachusetts, Horatio Nelson Rust (1826-1906) was a lifelong antiquarian and amateur archeologist who began collecting archeological and ethnographic items as a traveling salesman on the East Coast. He accepted artifacts for trade or payment, and contracted the sale or collection of artifacts from institutions in the East. In 1880, Rust moved to California, where he served as a United States Indian Agent. In 1892, Rust sold approximately 3,000 items to Frank Granger Logan. In 1894, Logan donated the Rust Collection to the Logan Museum of Anthropology. The six unassociated funerary objects (catalog number 4902) are one lot of coiled basketry fragments; one lot of loose weave net fragments; one lot of compact weave net fragments; one lot of twisted cordage fragments; one bundle of twisted threads; and one lot of woven blanket fragments.

Based on archeological, anthropological, geographical, ethnohistoric, ethnographic, linguistic, and oral traditional information, the Sacramento Valley and Delta regions, where Elliot Mound No. 3 is located, are home to Nisenan-speaking groups, of which Wilton Rancheria, California is one.

Determinations Made by Beloit College, Logan Museum of Anthropology

Officials of Beloit College, Logan Museum of Anthropology have determined that:

• Pursuant to 25 U.S.C. 3001(3)(B), the six cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Wilton Rancheria, California.

Additional Requestors and Disposition

Lineal descendants or representatives of any Indian Tribe or Native Hawaiian organization not identified in this notice that wish to claim these cultural items should submit a written request with information in support of the claim to Nicolette B. Meister, Beloit College, Logan Museum of Anthropology, 700 College Street, Beloit, WI 53511, telephone (608) 363-2305, email meistern@beloit.edu, by December 7, 2022. After that date, if no additional claimants have come forward, transfer of control of the unassociated funerary objects to the Wilton Rancheria, California may proceed.

Beloit College, Logan Museum of Anthropology is responsible for notifying the Wilton Rancheria, California that this notice has been published.

Dated: October 26, 2022.
Melanie O'Brien,
Manager, National NAGPRA Program.

[FR Doc. 2022-24225 Filed 11-4-22; 8:45 am]

BILLING CODE 4312-52-P